OFFICE OF PERSONNEL MANAGEMENT

5 CFR Part 250

RIN 3206-AJ92

Human Resources Management in Agencies

AGENCY: Office of Personnel Management.

ACTION: Final rule; correction.

SUMMARY: The Office of Personnel Management (OPM) is correcting a final rule to implement certain provisions of the Chief Human Capital Officers Act of 2002, which set forth new OPM and agency responsibilities and requirements to enhance and improve the strategic management of the Federal Government's civilian workforce, as well as the planning and evaluation of agency efforts in that regard. This correction makes sure that subpart C of 5 CFR part 250 dealing with employee surveys is not affected by the changes to subpart A and subpart B.

DATES: Effective Date: The regulations are effective on May 28, 2008.

FOR FURTHER INFORMATION CONTACT: Charles D. Grimes by phone at 202-418-3163, by FAX at 202-606-2838, or by e-mail at pay-performance-policy@opm.gov. You may contact Mr. Grimes by TTY on 202-418-3134.

SUPPLEMENTARY INFORMATION: On April, 28, 2008, the Office of Personnel Management (OPM) issued final regulations to change 5 CFR part 250, to read “Human Resources Management in Agencies” to reflect current usage, to make a plain language revision in subpart A, and to add regulations on strategic human resources management as new subpart B.

In 73 FR 23012, appearing on page 23013 in the Federal Register of Monday, April 28, 2008, the following correction is made:

PART 250—[CORRECTED]

1. On page 23013, in the third column, in Part 250 Human Resources Management in Agencies, in amendment 1, the instruction “Revise part 250 to read as follows:” is corrected to read “Revise subpart A and add subpart B to part 250 to read as follows:”

Office of Personnel Management.
Charles D. Grimes III,
Deputy Associate Director, Center for Performance and Pay Systems.

[FR Doc. E8-9973 Filed 5-5-08; 8:45 am]

BILLING CODE 6325-39-P